FEDERAL COMMUNICATIONS COMMISSION

Federal Advisory Committee Act; Independent Panel Reviewing the Impact of Hurricane Katrina on Communications Networks

AGENCY: Federal Communications Commission.

ACTION: Notice of public meeting.

SUMMARY: In accordance with the Federal Advisory Committee Act, this notice advises interested persons that the Federal Communications Commission's (FCC) Independent Panel Reviewing the Impact of Hurricane Katrina on Communications Networks will hold its first meeting on January 30, 2006 in the FCC's Commission Meeting Room (TW-C305), in Washington, DC.

DATES: January 30, 2006, 10 a.m. to 5 p.m.

ADDRESSES: Federal Communications Commission, 445 12th Street, SW., Washington, DC 20554, Commission Meeting Room (TW-C305).

FOR FURTHER INFORMATION CONTACT: Lisa M. Fowlkes, Designated Federal Officer of the FCC's Independent Panel at 202-418-7452 or e-mail: lisa.fowlkes@fcc.gov.

SUPPLEMENTARY INFORMATION: The Independent Panel was established to review the impact of Hurricane Katrina on the telecommunications and media infrastructure in the areas affected by the hurricane. Specifically, the Independent Panel will study the impact of Hurricane Katrina on all sectors of the telecommunications and media industries, including public safety communications. The Independent Panel will also review the sufficiency and effectiveness of the recovery effort with respect to this infrastructure. The Independent Panel will then make recommendations to the Federal Communications Commission (“Commission” or “FCC”) by June 15, 2006 regarding ways to improve disaster preparedness, network reliability, and communications among first responders such as police, fire fighters, and emergency medical personnel. At its first meeting, the Independent Panel will consider a tentative timetable and the process for completing its task by June 15, 2006 and its committee structure. The Panel will also introduce and receive statements from panel members about the impact of Hurricane Katrina on their company's or industry sector's communications infrastructure as well as issues on which the panel should focus. Members of the general public may attend the meeting. The FCC will attempt to accommodate as many people as possible. However, admittance will be limited to seating availability. Real Audio access to the meeting will be available at http://www.fcc.gov. The public may submit written comments before the meeting to Lisa M. Fowlkes, the FCC's Designated Federal Officer for the Independent Panel by e-mail: lisa.fowlkes@fcc.gov or U.S. Postal Service Mail (Lisa M. Fowlkes, Enforcement Bureau, Federal Communications Commission, Room 7-C737, 445 12th Street, SW., Washington, DC 20554). Open captioning will be provided for this event. Other reasonable accommodations for people with disabilities are available upon request. Include a description of the accommodation you will need including as much detail as you can. Also include a way we can contact you if we need more information. Please allow at least 5 days advance notice; last minute requests will be accepted, but may be impossible to fill. Send an e-mail to fcc504@fcc.gov or call the Consumer & Governmental Affairs Bureau at 202-418-0530 (voice), 202-418-0432 (tty). Additional information about the meeting is available at the FCC's Web site at http://www.fcc.gov.

Federal Communications Commission.
Marlene H. Dortch,
Secretary.

[FR Doc. 06-386 Filed 1-12-06; 8:45 am]

BILLING CODE 6712-01-P